DEPARTMENT OF COMMERCE

National Oceanic and Atmospheric Administration

50 CFR Part 679

[Docket No. 000211040-0040-01; I.D. 102400C]

Fisheries of the Exclusive Economic Zone Off Alaska; Pacific Cod in the Bering Sea and Aleutian Islands Management Area; Correction

AGENCY: National Marine Fisheries Service (NMFS), National Oceanic and Atmospheric Administration (NOAA), Commerce.

ACTION: Reallocation; correction.

SUMMARY: This document corrects the reallocation of Bering Sea and Aleutian Islands management area (BSAI) Pacific cod from trawl catcher/processors and vessels using jig gear to vessels using hook-and-line or pot gear.

DATES: Effective November 1, 2000.

FOR FURTHER INFORMATION CONTACT: Andrew N. Smoker, 907-586-7228.

SUPPLEMENTARY INFORMATION: This document corrects the reallocation of Pacific cod in the Bering Sea and Aleutian Islands from trawl catcher/processors and vessels using jig gear to vessels using hook-and-line or pot gear.

Correction

In the final rule Pacific Cod in the Bering Sea and Aleutian Islands Management Area; published on November 1, 2000 (65 FR 65272), FR Doc. 00-28023, an error was made in SUPPLEMENTARY INFORMATION.

On page 65273, in the third column, the tenth line is corrected to read as follows: “processors, 81,958 mt to catcher/processor vessels using”.

Dated: November 3, 2000.
Bruce C. Morehead,
Acting Director, Office of Sustainable Fisheries, National Marine Fisheries Service.

[FR Doc. 00-28842 Filed 11-08-00; 8:45 am]

BILLING CODE 3510-22-S